DEPARTMENT OF THE INTERIOR

National Park Service

Notice of Availability; Draft Environmental Impact Statement for a Proposed Land Exchange Between the National Park Service and the Eastern Band of Cherokee Indians at Great Smoky Mountains National Park and the Blue Ridge Parkway

AGENCY: National Park Service (NPS).

ACTION: Notice of availability of draft environmental impact statement.

SUMMARY: Pursuant to section 102(2)(c) of the National Environmental Policy Act of 1969, and the President's Council on Environmental Quality Regulations (40 CFR 1500-1508), as implemented by Director's Order 12, the National Park Service (NPS) announces the availability of a draft environmental impact statement (DEIS) for a proposed land exchange between the NPS and the Eastern Band of Cherokee Indians (EBCI). The Department of the Interior waived the NPS policy regarding the selection of a DEIS preferred alternative. This notice also announces the locations of public hearings for the purpose of receiving comments on the draft document.

The DEIS analyzes two action alternatives and one no-action alternative for determining the feasibility of the proposed land exchange. The two action alternatives incorporate various management prescriptions to ensure resource protection and quality visitor experience conditions. The no-action alternative would continue current management practices and policies into the future.

Under the 168-acre exchange alternative, the Ravensford site (166 acres located within Great Smokey Mountains National Park and the two acres located within the Blue Ridge Parkway) would be exchanged for the 218-acre Waterrock Knob site. The Ravensford site would become part of the Qualla Boundary and the Waterrock Knob site would become part of the Blue Ridge Parkway. The EBCI would construct a three-school complex on the Ravensford site and would retain restricted use of the entire site. Restricted use would be in the form of deed restrictions on future development and a Government to Government Conservation/Education Agreement on future conservation/educational measures for archaeological, cultural, and natural resources material.

Travel to the Big Cove Community would no longer be jurisdictionally separated from the remainder of the Qualla Boundary. This alternative would place no restriction on the use of the Waterrock Knob site by the Blue Ridge Parkway; however, with the exception of possible future development of nature trails, the site would be expected to remain in its natural state.

Under the 143-acre exchange alternative, the Ravensford site would be exchanged for the 218-acre Waterrock Knob site. This alternative would be similar to the 168-acre exchange, except 25 acres would remain within Great Smoky Mountains National Park at the Ravensford site in order to ensure that certain cultural and natural resources remain under the control of the NPS. Areas of the site not included in the proposed exchange under this alternative are open field areas to the northwest of the Big Cove Road bridge, the floodplain forest located adjacent to the Oconaluftee River, and nearly all of the wetland area located east of Big Cove Road. The open field area contains important cultural resources, while the floodplain forest and wetland are considered important natural areas. The remaining acreage of the Ravensford site would be transferred to the EBCI for development of the three-school campus. This alternative would also reconnect the EBCI jurisdictional authority along the Big Cove Road with the remaining Qualla Boundary. With respect to the Waterrock Knob site, this alternative would be identical to the 168-acre alternative.

DATES: The DEIS will be available for public review from June 13, 2003, through August 15, 2003. Public meetings will be held on July 8, 9, and 10, 2003. Representatives of the NPS will be available at the public hearings to receive comments, concerns, and other input from the public related to the DEIS. Specific information about public meetings follows:

Dates | Times | Locations
July 8 | 6-10 PM | 2431 Center Drive, Hollingworth Auditorium, Knoxville, TN 37996.
July 9 | 6-10 PM | Milepost 382 Hemphill Road, Blue Ridge Parkway Folk Art Center, Asheville, NC 28803.
July 10 | 6-10 PM | Cherokee Elementary School, Cherokee, NC.

ADDRESSES: Comments on the DEIS may be submitted by mail to John Yancy, Associate Regional Director, Natural Resources Stewardship & Science, Atlanta Federal Center, 100 Alabama Street SW., Atlanta, GA 30303. Comments may also be submitted via toll free phone: (888) 820-3644; toll free fax: (888) 820-3643; or via email at NPSlandexchange@saic.com. A very limited number of printed copies of the DEIS are available upon request from the above address. A copy can also be requested on CD. The complete text and an executive summary of the DEIS is available for review or download on the Internet at http://www.npslandexchange.com/.

Copies of the DEIS will also be available for review at the following locations:

Anna Porter Public Library, 207 Cherokee Orchard Road, Gatlinburg, TN 37738

Blue Ridge Parkway Headquarters, 199 Hemphill Knob Road, Asheville, NC 28803

John C. Hodges Library, Government Documents, University of Tennessee, 1015 Volunteer Blvd., Knoxville, TN 37996

Great Smoky Mountains National Park, Oconaluftee Visitor Center, 1194 Newfound Gap Highway, Cherokee, NC 28719

Great Smoky Mountains National Park, 107 Park Headquarters Road, Gatlinburg, TN 37738

Great Smoky Mountains National Park, Sugarlands Visitor Center, 107 Park Headquarters Road, Gatlinburg, TN 37738

Qualla Boundary Public Library, 810 Ocquoni Road, Room 151, Cherokee, NC 28719

Ramsey Library, CPO# 1500, University of North Carolina—Asheville, NC 28804.

SUPPLEMENTARY INFORMATION: The proposed action involves the exchange of land known as the Ravensford site that is located on the North Carolina side of the Great Smoky Mountains National Park and Blue Ridge Parkway for land of equal or greater monetary value that would be consolidated within a unit of the National Park Service in North Carolina as allowed under the Land and Water Conservation Act. Congress authorized the NPS to consider the feasibility of a land between the Great Smoky Mountains National Park and Blue Ridge Parkway and the Eastern Band of the Cherokee Indians. The tribal purpose for securing this land is for new schools construction. The exchange would also reestablish the territorial jurisdiction along Big Cove Road to the Qualla Boundary (also known as the EBCI Reservation).

Under the proposed action, land that is currently part of an area between the Great Smoky Mountains National Park and Blue Ridge Parkway known as the Ravensford site would be exchanged for a 218-acre site adjacent to the Blue Ridge Parkway known as the Waterrock Knob site. In addition to the no-action alternative, two exchange alternatives were developed and are analyzed in the DEIS. Environmental impacts were analyzed in this DEIS for the following resources areas: Land use, infrastructure, air quality and noise, visual resources, geology and soils, water resources, ecological resources, cultural resources, socioeconomic, waste management, and environmental justice. Direct, indirect, and cumulative impacts along with associated mitigation measures to reduce the potential for impacts were evaluated and are described for each resource area.

Our practice is to make the public comments we receive in response to planning documents, including names and home addresses of respondents, available for public review during regular business hours. If you wish for us to withhold your name and/or address, you must state this prominently at the beginning of your comment. Anonymous comments will be included in the public record. However, the National Park Service is not legally required to consider or respond to anonymous comments. We will make all submissions from organizations or businesses, and from individuals identifying themselves as representatives or officials of organizations or businesses, available for public inspection in their entirety.

The responsible official for this environmental impact statement is William W. Schenk, Regional Director, National Park Service, Southeast Region, 100 Alabama Street SW., Atlanta, Georgia 30303.

Dated: May 6, 2003.
William W. Schenk,
Regional Director, Southeast Region.

[FR Doc. 03-14316 Filed 6-5-03; 8:45 am]

BILLING CODE 4310-51-P